NUCLEAR REGULATORY COMMISSION

10 CFR Parts 40, 70, 72, 74, and 150

[NRC-2009-0096 and NRC-2013-0195]

RIN 3150-AI61

Amendments to Material Control and Accounting Regulations and Proposed Guidance for Fuel Cycle Facility Material Control and Accounting Plans and Completing the U.S. Nuclear Regulatory Commission Form 327

AGENCY: Nuclear Regulatory Commission.

ACTION: Notice of rescheduled public meeting and extension of comment period.

SUMMARY: The Nuclear Regulatory Commission (NRC) is rescheduling a public meeting that was cancelled due to inclement weather and extending the public comment period for a proposed rule and draft guidance on material control and accounting (MC&A) of special nuclear material (SNM). The public meeting has been rescheduled for January 9, 2014. The public comment period has been extended to March 10, 2014, in response to a request by stakeholders.

DATES: The public meeting announced at 78 FR 71532 (November 29, 2013) is rescheduled to January 9, 2014. The public comment period announced at 78 FR 67224 and 67225 has been extended from February 18, 2014, to March 10, 2014

ADDRESSES: The public meeting will be held at the NRC's headquarters, Room 3WFN-1D07, Three White Flint North, 11601 Landsdown Street, North Bethesda, MD 20852. Members of the public may also participate in the meeting via teleconference or Webinar. Information for the teleconference and Webinar is available in the meeting notice, which can be accessed through the NRC's public Web site at: http://meetings.nrc.gov/pmns/mtg.

Please refer to Docket ID NRC-2009-0096 when contacting the NRC about the availability of information for the proposed rule, and refer to Docket ID: NRC-2013-0195 when contacting the NRC about the availability of information for the draft NUREGs. You may access publicly-available information related to this action by any of the following methods:

• Federal Rulemaking Web site: Go to: http://www.regulations.gov and search for Docket ID NRC-2009-0096 for information about the proposed rule and Docket ID: NRC-2013-0195 for information about the draft NUREGs. Address questions about NRC dockets to Carol Gallagher; telephone: 301-287-3422; email: Carol.Gallagher@nrc.gov. For technical questions, contact the individuals listed in the FOR FURTHER INFORMATION CONTACT section of this document.

• NRC's Agencywide Documents Access and Management System (ADAMS): You may access publicly-available documents online in the NRC Library at: http://www.nrc.gov/reading-rm/adams.html. To begin the search, select “ADAMS Public Documents” and then select “Begin Web-based ADAMS Search.” For problems with ADAMS, please contact the NRC's Public Document Room (PDR) reference staff at: 1-800-397-4209, 301-415-4737, or by email to: pdr.resource@nrc.gov.

• NRC's PDR: You may examine and purchase copies of public documents at the NRC's PDR, Room O1-F21, One White Flint North, 11555 Rockville Pike, Rockville, Maryland 20852.

FOR FURTHER INFORMATION CONTACT: Thomas Young, Office of Federal and State Materials and Environmental Management Programs, U.S. Nuclear Regulatory Commission, Washington, DC 20555-0001; telephone: 301-415-5795; email: Thomas.Young@nrc.gov.

I. Background

On November 8, 2013 (78 FR 67225; NRC-2009-0096), the NRC published for public comment a proposed rule to amend its regulations for MC&A of SNM. Also on November 8, 2013 (78 FR 67224; NRC-2013-0195), the NRC published for public comment the proposed guidance documents that discuss acceptable methods that licensees may use to prepare and implement their MC&A plans and how the NRC will review and inspect these plans. The public comment period for the proposed rule and the proposed guidance would have closed on February 18, 2014. In addition, the NRC had planned to hold a public meeting on the proposed rule and proposed guidance on December 10, 2013. Due to inclement weather, this public meeting has been rescheduled to be held on January 9, 2014. The NRC received a request to extend the comment period to 60 days after the rescheduled public meeting. The NRC has decided to extend the comment period until March 10, 2014.

The goal of this rulemaking is to revise and consolidate the MC&A requirements in order to update, clarify, and strengthen them. The proposed amendments add new requirements that would apply to NRC licensees who are authorized to possess SNM in a quantity greater than 350 grams.

II. Public Meeting

To facilitate the understanding of the public and other stakeholders of these issues and the submission of comments, the NRC staff plans to hold a public meeting on January 9, 2014, from 10:00 a.m. to 5:00 p.m. (EST), in Rockville, Maryland. The meeting notice can be accessed through the NRC's public Web site at: http://meetings.nrc.gov/pmns/mtg. The final agenda and the meeting materials will be posted no fewer than 10 days prior to the meeting at this Web site.

In addition, members of the public may also participate in the meeting via teleconference or Webinar. Information for the teleconference and Webinar is available in the meeting notice, which can be accessed through the NRC's public Web site at: http://meetings.nrc.gov/pmns/mtg. To register in advance for the teleconference and Webinar, please contact Thomas Young at: 301-415-5795 (email: Thomas.Young@nrc.gov).

Dated at Rockville, Maryland, this 20th day of December, 2013.
For the Nuclear Regulatory Commission.
Christopher G. Miller,
Division of Intergovernmental Liaison and Rulemaking, Office of Federal and State Materials and Environmental Management Programs.

[FR Doc. 2013-31200 Filed 12-27-13; 8:45 am]

BILLING CODE 7590-01-P